DEPARTMENT OF ENERGY

Federal Energy Regulatory Commission

[Project No. 3701-091]

Tieton Hydropower, LLC; Southern California Public Power Authority; Notice of Application for Transfer of License, and Soliciting Comments and Motions To Intervene

August 14, 2009.

On August 7, 2009, Tieton Hydropower, LLC (transferor) and Southern California Public Power Authority (transferee) filed an application for transfer of license of the Tieton Dam Project, located on the Tieton River in Yakima County, Washington.

Applicants seek Commission approval to transfer the license for the Tieton Dam from the transferors to the transferees.

Applicant Contact: Transferor: Mr. Chad Ross, Tieton Hydropower, LLC, 925 Fairgrounds Road, Goldendale, WA 98620, Phone (509) 773-5650. Transferee: Mr. Richard M. Helgeson, Southern California Public Power Authority, 225 South Lake Avenue, Suite 1410, Pasadena, CA 91101, phone (626) 793-9364.

FERC Contact: Robert Bell, (202) 502-6062.

Deadline for filing comments and motions to intervene: 30 days from the issuance of this notice. Comments and motions to intervene may be filed electronically via the Internet. See 18 CFR 385.2001(a)(1)(iii)(2008) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of Commission's Web site at http://www.ferc.gov/docs-filing/elibrary.asp. Enter the docket number (P-3701-091) in the docket number field to access the document. For assistance, call toll-free 1-866-208-3372.

Kimberly D. Bose,
Secretary.

[FR Doc. E9-20238 Filed 8-21-09; 8:45 am]

BILLING CODE 6717-01-P